DEPARTMENT OF DEFENSE

Department of the Army

Proposed Collection, Comment Request

AGENCY: Deputy Chief of Staff for Personnel (DAPE-ZXI-RM), U.S. Army, DoD.

ACTION: Notice.

SUMMARY: In compliance with Section 3506(c)(2)(A) of the Paperwork Reduction Act of 1995, the Department of the Army announces a proposed public information collection and seeks public comment on the provisions thereof. Comments are invited on (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 21, 2000.

ADDRESSES: Written comments and recommendations on the proposed information collection should be sent to U.S. Army Corps of Engineers Water Resource Support Center, Waterborne Commerce Statistics Center, P.O. Box 61280, New Orleans, Louisiana 70161-1280, ATTN: CEWRC-NDC-C (Susan K. Hassett). Consideration will be given to all comments received within 60 days of the date of publication of this notice.

FOR FURTHER INFORMATION CONTACT: To request more information on this proposed information collection or to obtain a copy of the proposal and associated collection instruments, please write to the above address, or call Department of the Army Reports clearance officer at (703) 614-0454.

Title, Associated Form, and OMB Number: Shipper's Export Declaration (SED) Program, ENG Form 7513

Needs and Uses: The data collected are movements of foreign cargo from one foreign country to another foreign country through a U.S. water port. Since goods are neither produced nor consumed in the U.S. they do not count in the balance of trade statistics, but are important from a water transportation standpoint. Vessels moving these goods use federally maintained channels, and these goods should be included in federal water transportation an multi-model transportation analysis.

Affected Public: Business or other for-profit.

Annual Burden Hours: 29,737.

Number Per Respondents: 13,000.

Responses Per Respondent: 1.

Average Burden Per Response: 11 minutes.

Frequency: Mandatory.

SUPPLEMENTARY INFORMATION: The Corps and Maritime Administration (MARAD) use the data from the program to satisfy the missions of their respective agencies. The Corps is responsible for the operation and maintenance of the nation's waterway system to ensure efficient and safe passage of commercial and recreation vessels. The support and management of economically sound navigation projects are dependent upon reliable navigation data mandated by the River and Harbor Appropriations Act of September 22, 1922 (42 Stat. 1043) as amended and codified in 33 U.S.C. 555.

John A. Hall,
Alternate Army Federal Register Liaison Officer.

[FR Doc. 00-15646 Filed 6-20-00; 8:45 am]

BILLING CODE 3710-08-M